DEPARTMENT OF ENERGY

Environmental Management Advisory Board

AGENCY: Office of Environmental Management, Department of Energy.

ACTION: Notice for solicitation of members.

SUMMARY: In accordance with the Federal Advisory Committee Act, the U.S. Department of Energy is soliciting nomination for candidates to fill vacancies on the Environmental Management Advisory Board.

DATES: Deadline for member nominations is May 15, 2023.

ADDRESSES: The nominee's name, resume, biography, and any letters of support must be submitted via email to: kelly.snyder@em.doe.gov. Board website: www.energy.gov/em/emab.

SUPPLEMENTARY INFORMATION: The mission of the Environmental Management Advisory Board (EMAB) is to provide independent and external advice, information, and recommendations to the Assistant Secretary for Environmental Management (EM) on corporate issues relating to accelerated site cleanup and risk reduction.

The Board works to identify applicable private and public sector best management practices and provides counsel on how to integrate them into the EM program. The Board works with the private sector to identify barriers to the effective execution of the Assistant Secretary's program objectives and facilitates discussions between the department, private industry and the public for knowledge sharing. EMAB provides strategic management advice on where and how to focus the program's resources to achieve maximum impact and greatest risk reduction.

EMAB's activities are governed by the Federal Advisory Committee Act (FACA), which was enacted to ensure that the general public has access to advisory board deliberations and recommendations.

The membership of EMAB includes individuals from governmental and non-governmental entities, private industry, and scientific and academic communities. Members are sought in all professional fields related to Environmental Management programs and specifically groundwater remediation, soil remediation, and adaptive management.

Members are appointed for two-year terms. The Board typically meets twice a year in-person and as needed, virtually. Members serve on an uncompensated, volunteer basis. However, committee members are paid authorized travel and per diem for each meeting that requires travel. Each nominee must submit their resume and biography along with any letters of support by the deadline above. All nominees will be vetted before selection.

Nominations are open to all individuals without regard to race, color, religion, sex, national origin, age, mental or physical handicap, marital status, or sexual orientation.

Appointments to the Environmental Management Advisory Board will be made by the Secretary of Energy.

For further information on EMAB, please visit www.energy.gov/em/emab. For further information about DOE's Environmental Management program, please visit www.energy.gov/em.

Signed in Washington, DC, on April 5, 2023.
LaTanya Butler,
Deputy Committee Management Officer.

[FR Doc. 2023-07466 Filed 4-7-23; 8:45 am]

BILLING CODE 6450-01-P